DEPARTMENT OF ENERGY

Federal Energy Regulatory Commission

[Project No. 10172-038]

Missisquoi River Technologies; Notice of Termination of Exemption By Implied Surrender and Soliciting Comments, Protests, and Motions To Intervene

Take notice that the following hydroelectric proceeding has been initiated by the Commission:

a. Type of Proceeding: Termination of exemption by implied surrender.

b. Project No.: 10172-038.

c. Date Initiated: September 1, 2011.

d. Exemptee: Missisquoi River Technologies.

e. Name and Location of Project: The North Troy Project is located on the Missisquoi River in Orleans County, Vermont.

f. Filed Pursuant to: 18 CFR 4.106.

g. Exemptee Contact Information: Mr. Michael Fontes, Missisquoi River Technologies, 4594 Western Turnpike, Altamont, NY 12009.

h. FERC Contact: Tom Papsidero, (202) 502-6002, or Thomas.papsidero@ferc.gov.

i. Deadline for filing comments, protests, and motions to intervene is 30 days from the issuance date of this notice. All documents may be filed electronically via the Internet in lieu of paper. See 18 CFR 385.2001(a)(1)(iii) and the instructions on the Commission's Web site at http://www.ferc.gov/docs-filing/efiling.asp. The Commission strongly encourages electronic filings. If unable to be filed electronically, documents may be paper-filed. To paper-file, an original and seven copies should be sent to: The Secretary, Federal Energy Regulatory Commission, 888 First Street, NE., Washington, DC 20426. Commenters can submit brief comments up to 6,000 characters, without prior registration, using the eComment system at http://www.ferc.gov/docs-filing/ecomment.asp. You must include your name and contact information at the end of your comments. Please include the project number (P-10172-038) on any documents or motions filed.

j. Description of Existing Facilities: The inoperative project consists of the following facilities: (1) A 12-foot-high, 90-foot-long dam; (2) an impoundment having a surface area of 17 acres with negligible storage and a normal water surface elevation of 536.7 feet mean sea level; (3) an intake structure; (4) a 225-foot-long, 6-foot-diameter steel penstock; (5) a powerhouse containing one generating unit having an installed capacity of 400-kW; (6) a tailrace; (7) a 60-foot-long, 13.2 kV transmission line; and (8) appurtenant facilities.

k. Description of Proceeding: The exemptee is currently in violation of Standard Articles 1 and 2 of the exemption granted on June 29, 1989 (47 FERC ¶ 62,284). Section 4.106 of the Commission's regulations, 18 CFR 4.106 provides, among other things, that the Commission reserves the right to revoke an exemption if any term or condition of the exemption is violated. The project has not generated since 1998. The project needs a complete upgrade of the powerhouse electrical and mechanical systems as well as repair work to the turbine shaft and wicket gate assembly. The exemptee has not performed the necessary work to restore generation. The exemptee also has not installed a new 60-kW minimum flow turbine necessary to provide a portion of the minimum flow release and bring the total installed capacity up to the authorized generating capacity of 460-kW.

Standard Article 2 of this exemption requires compliance with the mandatory terms and conditions prepared by federal or state fish and wildlife agencies to protect fish and wildlife resources. The exemption contains, among others, the following terms and conditions: (1) An instantaneous minimum flow release of 55 cubic feet per second (cfs) or inflow, whichever is less, into the bypassed reach of the Missisquoi River with at least 21 cfs spilling over the crest of the dam, (2) a plan for monitoring flow releases and providing records of discharges on a regular basis, and (3) downstream fish passage at the project. To date, the exemptee has not complied with these requirements and the project remains inoperative.

Commission staff has sent the exemptee letters stating that failure to operate the project is a violation of the terms and conditions of the exemption. On October 5, 2009, the exemptee filed a letter providing an outline of the remainder of the work needed to complete the repair of the project and restore generation and stated that it should be able to complete the work by September 2010. On June 17, 2011, Commission staff again wrote to the exemptee requiring the exemptee, within 30 days, to file a plan and schedule to resume operating and show cause why the Commission should not initiate a proceeding to terminate the exemption based on the exemptee's implied surrender of the exemption. In a response filed July 18, 2011, the exemptee stated, among other things, that the status of the project has not changed significantly since a July 2010 inspection by the New York Regional Office, which reported that significant work was needed to resume generation.

l. This notice is available for review and reproduction at the Commission in the Public Reference Room, Room 2A, 888 First Street, NE., Washington, DC 20426. The filing may also be viewed on the Commission's Web site at http://www.ferc.gov/docs-filing/elibrary.asp. Enter the Docket number excluding the last three digits in the docket number field to access the notice. You may also register online at http://www.ferc.gov/docs-filing/esubscription.asp to be notified via e-mail of new filings and issuances related to this or other pending projects. For assistance, call toll-free 1-866-208-3676 or e-mail FERCOnlineSupport@ferc.gov. For TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular proceeding.

o. Filing and Service of Responsive Documents—Any filing must (1) Bear in all capital letters the title “Comments”, “Protest”, or “Motion to Intervene,” as applicable; (2) set forth in the heading the project number of the proceeding to which the filing responds; (3) furnish the name, address, and telephone number of the person commenting, protesting or intervening; and (4) otherwise comply with the requirements of 18 CFR 385.2001 through 385.2005. All comments, protests or motions to intervene must set forth their evidentiary basis and otherwise comply with the requirements of 18 CFR 4.34(b). All comments, protests, or motions to intervene should relate to project works which are the subject of the termination of exemption. A copy of any protest or motion to intervene must be served upon each representative of the exemptee specified in item g above. If an intervener files comments or documents with the Commission relating to the merits of an issue that may affect the responsibilities of a particular resource agency, they must also serve a copy of the document on that resource agency. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: September 1, 2011.
Kimberly D. Bose,
Secretary.

[FR Doc. 2011-23022 Filed 9-8-11; 8:45 am]

BILLING CODE 6717-01-P